COMMISSION ON CIVIL RIGHTS

Agenda and Notice of Public Meeting of the Oregon Advisory Committee

Notice is hereby given, pursuant to the provisions of the rules and regulations of the U.S. Commission on Civil Rights (Commission) and the Federal Advisory Committee Act (FACA) that the Oregon Advisory Committee (Committee) will meet on Thursday, August 22, 2013. The meeting will convene at 2:00 p.m. and adjourn at approximately 4:00 p.m. The meeting will be held at the Hillsdale Library, 1525 SW Sunset Boulevard, Portland, OR 97329. The purpose of the meeting is for the Committee to plan future activities.

The meeting is open to the public, and members of the public are entitled to submit written comments. Written comments may be mailed to the Western Regional Office, U.S. Commission on Civil Rights, 300 N Los Angeles St., Suite 2010, Los Angeles, CA, 90012. They may also be faxed to the Commission at (213) 894-0507 or emailed to the Commission at atrevino@usccr.gov. Submitted comments must be received by September 30, 2013. Persons who desire additional information may contact the Western Regional Office at (213) 894-3437.

Hearing-impaired persons who will attend the meeting and require the services of a sign language interpreter should contact the Western Regional Office at least ten (10) working days before the scheduled date of the meeting.

Records generated from this meeting may be inspected and reproduced at the Western Regional Office, as they become available, both before and after the meeting. Persons interested in the work of this Committee are directed to the Commission's Web site, http://www.usccr.gov, or may contact the Western Regional Office at the above email or street address.

The meeting will be conducted pursuant to the rules and regulations of the Commission and FACA.

Dated in Chicago, IL, July 31, 2013.
David Mussatt,
Acting Chief, Regional Programs Coordination Unit.

[FR Doc. 2013-18836 Filed 8-5-13; 8:45 am]

BILLING CODE 6335-01-P